DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on January 31 and February 1, 2012. The meeting will be held in room 1143 of the Lafayette Building, 811 Vermont Avenue NW., Washington, DC. The meeting will start at 8 a.m. each day and will adjourn at 5 p.m. on January 31 and at 12:30 p.m. on February 1. All sessions will be open to the public.

The purpose of the Committee is to provide advice and make recommendations to the Secretary of Veterans Affairs on proposed research studies, research plans and research strategies relating to the health consequences of military service in the Southwest Asia theater of operations during the Gulf War.

The Committee will review VA program activities related to Gulf War Veterans' illnesses and updates on relevant scientific research published since the last Committee meeting. The session on January 31 will be devoted to discussion of the Gulf War Research Strategic Plan being prepared in VA's Office of Research and Development followed by an update of VA Gulf War research funding. The research presentations on February 1 will involve background information on Gulf War Veterans' illnesses, nervous system function, its relation to ill Gulf War Veterans, and possible laboratory markers for Gulf War Veterans' illnesses. The session will also include discussion of Committee business and activities.

The meeting will include time reserved for public comments each day. A sign-up sheet for five-minute comments will be available at the meeting. Individuals who speak are invited to submit a 1-2 page summary of their comments at the time of the meeting for inclusion in the official meeting record. Members of the public may also submit written statements for the Committee's review to Dr. Roberta White at rwhite@bu.edu.

Any member of the public seeking additional information should contact Dr. Roberta White, Scientific Director, at (617) 638-4620 or Dr. Victor Kalasinsky, Designated Federal Officer, at (202) 443-5682, or email at victor.kalasinsky@va.gov.

Dated: January 11, 2012.
By direction of the Secretary.
Vivian Drake,
Committee Management Officer.

[FR Doc. 2012-710 Filed 1-13-12; 8:45 am]

BILLING CODE P